DEPARTMENT OF ENERGY

Federal Energy Regulatory Commission

Combined Notice of Filings # 1

December 27, 2006.

Take notice that the Commission received the following electric corporate filings:

Docket Numbers: EC07-39-000.

Applicants: The Goldman Sachs Group, Inc.

Description: The Goldman Sachs Group, Inc. submits an application for Blanket Authorization to Acquire Utility and/or Holding Company Securities.

Filed Date: 12/20/2006.

Accession Number: 20061227-0035.

Comment Date: 5 p.m. Eastern Time on Wednesday, January 10, 2007.

Docket Numbers: EC07-40-000.

Applicants: T. Rowe Price Group, Inc.; T. Rowe Price Associates, Inc.; T. Rowe Price International, Inc.; T. Rowe Price Global Investment Services Limited; T. Rowe Price Global Asset Management Limited; T. Rowe Price (Canada), Inc.; T. Rowe Price Trust Company; T. Rowe Price (Luxembourg) Management S.àr.l.; T. Rowe Price Savings Bank.

Description: T Rowe Price Group, Inc. et al submit a request for blanket authorizations to acquire and dispose of securities under Section 203 of the Federal Power Act.

Filed Date: 12/20/2006.

Accession Number: 20061227-0034.

Comment Date: 5 p.m. Eastern Time on Wednesday, January 10, 2007.

Take notice that the Commission received the following electric rate filings.

Docket Numbers: ER00-1053-019.

Applicants: Maine Public Service Company.

Description: Maine Public Service Co. submits revised OATT pages and a Settlement Agreement regarding its Formula Rate and its 2006 Informational Filing.

Filed Date: 12/22/2006.

Accession Number: 20061226-0202.

Comment Date: 5 p.m. Eastern Time on Friday, January 12, 2007.

Docket Numbers: ER01-205-017; ER98-2640-015; ER98-4590-013; ER99-1610-021.

Applicants: Xcel Energy Services Inc.; Northern States Power Company.

Description: Xcel Energy Services Inc. on behalf of Southwestern Public Service Company submits this change in status report relating to its market-based rate authority.

Filed Date: 12/21/2006.

Accession Number: 20061227-0036.

Comment Date: 5 p.m. Eastern Time on Thursday, January 11, 2007.

Docket Numbers: ER07-349-000.

Applicants: Westar Energy, Inc.

Description: Westar Energy, Inc. submits Revised Sheets 131, 132 and 137 of Schedules 2 and 6 of its FERC Electric Tariff, Second Revised Volume 5.

Filed Date: 12/21/2006.

Accession Number: 20061226-0130.

Comment Date: 5 p.m. Eastern Time on Thursday, January 11, 2007.

Docket Numbers: ER07-350-000.

Applicants: PJM Interconnection, L.L.C.

Description: PJM Interconnection, L.L.C. submits revisions to the chart in Schedule 2 of the PJM Open Access Transmission Tariff.

Filed Date: 12/21/2006.

Accession Number: 20061226-0131.

Comment Date: 5 p.m. Eastern Time on Thursday, January 11, 2007.

Docket Numbers: ER07-351-000.

Applicants: Powerex Corp.

Description: Powerex Corp. submits a certificate of concurrence to the Hourly Coordination Agreement, filed by Washington Water Power Co.

Filed Date: 12/21/2006.

Accession Number: 20061227-0037.

Comment Date: 5 p.m. Eastern Time on Thursday, January 11, 2007.

Docket Numbers: ER07-352-000.

Applicants: S.D. Warren Company.

Description: S.D. Warren Co. submits an order accepting market-based rate Tariff, Original Volume 1, and granting waivers and blanket authority.

Filed Date: 12/22/2006.

Accession Number: 20061226-0200.

Comment Date: 5 p.m. Eastern Time on Friday, January 12, 2007.

Docket Numbers: ER07-353-000; ER07-354-000; ER07-355-000; ER07-355-000.

Applicants: Unitil Energy Systems, Inc.; Fitchburg Gas and Electric Light Company.

Description: Unitil Power Corp. and Fitchburg Gas and Electric Light Co. submits tariff sheets and Attachment A-D to the FERC Electric Tariff, Second Revised Volume 3.

Filed Date: 12/22/2006.

Accession Number: 20061226-0194.

Comment Date: 5 p.m. Eastern Time on Friday, January 12, 2007.

Docket Numbers: ER07-356-000.

Applicants: New York Independent System Operator, Inc.

Description: New York Independent System Operator, Inc. submits revisions to its Market Administration and Control Area Services Tariff.

Filed Date: 12/22/2006.

Accession Number: 20061226-0199.

Comment Date: 5 p.m. Eastern Time on Friday, January 12, 2007.

Docket Numbers: ER07-357-000.

Applicants: Fenton Power Partners I, LLC.

Description: Fenton Power Partners I, LLC submits for order accepting their FERC Electric Tariff, Original Volume No. 1.

Filed Date: 12/22/2006.

Accession Number: 20061226-0198.

Comment Date: 5 p.m. Eastern Time on Friday, January 12, 2007.

Docket Numbers: ER07-358-000.

Applicants: Southwest Power Pool, Inc.

Description: Southwest Power Pool, Inc. submits an executed service agreement for Firm Point-to-Point Transmission Service with Western Resources dba Westar Energy.

Filed Date: 12/22/2006.

Accession Number: 20061226-0197.

Comment Date: 5 p.m. Eastern Time on Friday, January 12, 2007.

Docket Numbers: ER07-359-000.

Applicants: Maine Public Service Company.

Description: Maine Public Service Co submits revisions to the MPS Open Access Transmission Tariff, pursuant to the Commissions 4/25/06.

Filed Date: 12/22/2006.

Accession Number: 20061226-0196.

Comment Date: 5 p.m. Eastern Time on Friday, January 12, 2007.

Docket Numbers: ER07-360-000.

Applicants: New York Independent System Operator, Inc.

Description: New York Independent System Operator, Inc submits proposed revisions to Section 4.5(b) of Attachment H to its Market Administration and Control Area Services Tariff.

Filed Date: 12/22/2006.

Accession Number: 20061226-0195.

Comment Date: 5 p.m Eastern Time on Friday, January 12, 2007.

Docket Numbers: ER07-361-000.

Applicants: AmerenEnergy Marketing Company.

Description: Ameren Energy Marketing Co, Central Illinois Public Service Co, Illinois Power Co and Union Electric Co submits an application under Section 205 of the Federal Power Act.

Filed Date: 12/22/2006.

Accession Number: 20061226-0201.

Comment Date: 5 p.m. Eastern Time on Friday, January 12, 2007.

Docket Numbers: ER07-363-000

Applicants: Southern California Edison Company.

Description: Southern California Edison Company submits First Revised Sheet 19 et al for its Agreements w/Arizona Public Service Co et al reflecting a proposal to freeze until at least January 1, 2010.

Filed Date: 12/26/2006.

Accession Number: 20061227-0011.

Comment Date: 5 p.m. Eastern Time on Tuesday, January 16, 2007.

Docket Numbers: ER07-364-000.

Applicants: Pacific Gas and Electric Company.

Description: Pacific Gas and Electric Company submits an executed Operating Agreement dated 12/14/06 w/ Plumas-Sierra Rural Electric Cooperative et al and a notice of termination for FERC Rate Schedule 173.

Filed Date: 12/26/2006.

Accession Number: 20061227-0010.

Comment Date: 5 p.m. Eastern Time on Tuesday, January 16, 2007.

Docket Numbers: ER07-365-000.

Applicants: ISO New England Inc.; New England Power Pool.

Description: ISO New England Inc and the New England Power Pool Participants Committee submits proposed revisions to Market 1 relating to the Methodology for Calculating Installed Capacity Requirements.

Filed Date: 12/22/2006.

Accession Number: 20061227-0008.

Comment Date: 5 p.m. Eastern Time on Friday, January 17, 2007.

Any person desiring to intervene or to protest in any of the above proceedings must file in accordance with Rules 211 and 214 of the Commission's Rules of Practice and Procedure (18 CFR § 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie Salas,
Secretary.

[FR Doc. E6-22669 Filed 1-5-07; 8:45 am]

BILLING CODE 6717-01-P